DEPARTMENT OF ENERGY

Federal Energy Regulatory Commission

[Project No. 9000-006]

STS Hydropower, LLC; Notice of Application Accepted For Filing and Soliciting Comments, Motions To Intervene, and Protests

Take notice that the following hydroelectric application has been filed with the Commission and is available for public inspection.

a. Type of Application: Temporary variance of lake level elevation.

b. Project No.: 9000-006.

c. Date Filed: September 21, 2020 and supplemented October 20, 2020.

d. Applicant: STS Hydropower, LLC.

e. Name of Project: Morrow Dam Hydroelectric Project.

f. Location: The project is located on the Kalamazoo River in Kalamazoo County, Michigan.

g. Filed Pursuant to: Federal Power Act, 16 U.S.C. 791(a)-825(r).

h. Applicant Contact: Ms. Jody J. Smet, STS Hydropower, LLC, 116 N. State Street, P.O. Box 167, Neshkoro, WI, 85260, (804) 739-0654.

i. FERC Contact: Jennifer Polardino, (202) 502-6437, Jennifer.Polardino@ferc.gov.

j. Deadline for filing comments, motions to intervene, and protests is 20 days from the issuance of this notice. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may send a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-9000-006. Comments emailed to Commission staff are not considered part of the Commission record.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Request: The exemptee requests a temporary variance from Article 2 of the project's exemption (exemption issued July 26, 1985) to lower the project's reservoir elevation to repair damages to the trunnion arms on two Tainter gates at the Morrow Hydroelectric Project No. 9000. The exemptee initiated a controlled drawdown of the reservoir by 9 feet for this repair and public safety in October 2019. The exemptee proposes to complete the work on the Tainter gates by December 31, 2020 and says it would refill the reservoir 6 inches per day. The exemptee proposes to completely refill the project's reservoir by no later than April 1, 2020. During this time, the exemptee proposes to mitigate impacts to water quality, sedimentation, turbidity, cultural resources, and recreation as a result of the reservoir drawdown in consultation with the resource agencies and stakeholders.

l. Locations of the Applications: In addition to publishing the full text of this document in the Federal Register, the Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicant. At this time, the Commission has suspended access to the Commission's Public Reference Room due to the proclamation declaring a National Emergency concerning the Novel Coronavirus Disease (COVID-19), issued by the President on March 13, 2020. For assistance, contact FERC at FERCOnlineSupport@ferc.gov or call toll free, (866) 208-3676 or TTY, (202) 502-8659.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: November 4, 2020.
Nathaniel J. Davis, Sr.,
Deputy Secretary.

[FR Doc. 2020-24929 Filed 11-9-20; 8:45 am]

BILLING CODE 6717-01-P